DEPARTMENT OF ENERGY

Federal Energy Regulatory Commission

[Docket No. CP07-405-002]

Texas Gas Transmission, LLC; Notice of Compliance Filing

September 3, 2008.

Take notice that on April 14, 2008, Texas Gas Transmission LLC (Texas Gas) in compliance with the Commission order issued February 29, 2008, 122 FERC ¶ 61,190 (2008), tendered for filing Pro Forma tariff sheets addressing the Commission's concerns for providing market-based rate firm and interruptible storage service under section 4(f) of the Natural Gas Act.

Texas Gas states that copies of the filing have been served on the official service list compiled by the Secretary of the Commission in this proceeding.

Any person desiring to intervene or to protest in this proceeding must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

This filing may be also viewed on the Web at http://www.ferc.gov using the “eLibrary” link. Enter the docket number excluding the last three digits in the docket number field to access the document. The filing is also available for review in the Commission's Public Reference Room in Washington, DC. There is an eSubscription link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on Wednesday, September 10, 2008.

Kimberly D. Bose,
Secretary.

[FR Doc. E8-20868 Filed 9-8-08; 8:45 am]

BILLING CODE 6717-01-P